DEPARTMENT OF HOUSING AND URBAN DEVELOPMENT

[Docket No. FR-7025-N-02]

60-Day Notice of Proposed Information Collection: Disaster Recovery Grant Reporting System

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: March 30, 2020.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone (202) 402-3400 (this is not a toll-free number) or email at Colette.Pollard@hud.gov for a copy of the proposed forms or other available information. Persons with hearing or speech impairments may access this number through TTY by calling the toll-free Federal Relay Service at (800) 877-8339.

FOR FURTHER INFORMATION CONTACT: Rosie Beaman, Assistant Director of Operations, Disaster Recovery and Special Issues Division, Office of Block Grant Assistance, Department of Housing and Urban Development, 451 7th Street SW, Washington, DC 20410; email Rosie Beaman at Rosie.Beaman@hud.gov or telephone (202) 708-2951. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Disaster Recovery Grant Reporting System (DRGR).

OMB Approval Number: 2506-0165.

Type of Request: Extension.

Form Number: SF-424 Application for Federal Assistance.

Description of the need for the information and proposed use: The Disaster Recovery Grant Reporting (DRGR) System is a grants management system used by the Office of Community Planning and Development to monitor special appropriation grants under the Community Development Block Grant program. This collection pertains to Community Development Block Grant Disaster Recovery (CDBG-DR) and Neighborhood Stabilization Program (NSP) grant appropriations.

The CDBG program is authorized under Title I of the Housing and Community Development Act of 1974, as amended. Following major disasters, Congress appropriates supplemental CDBG funds for disaster recovery. According to Section 104(e)(1) of the Housing and Community Development Act of 1974, HUD is responsible for reviewing grantees' compliance with applicable requirements and their continuing capacity to carry out their programs. Grant funds are made available to states and units of general local government, Indian tribes, and insular areas, unless provided otherwise by supplemental appropriations statute, based on their unmet disaster recovery needs.

Respondents (i.e., affected public): DRGR is used to monitor CDBG-DR, NSP, and NSP-TA grants, as well as several programs that do not fall under the Office of Block Grant Assistance. Separate information collections have been submitted and approved for these programs. CDBG-DR and NSP grant funds are made available to states and units of general local government, Indian tribes, and insular areas, unless provided otherwise by supplemental appropriations statute. NSP-TA grant funds are awarded on a competitive basis and are open to state and local governments, as well as non-profit groups and consortia that may include for-profit entities.

Estimated Number of Respondents: 1,792.

Estimated Number of Responses: 81,589.

Frequency of Response: Varies.

Average Hours per Response: Varies but average is .49.

Total Estimated Burdens: 39,631 hours and $1,048,066.

Information collection | Number of respondents | Frequency of response | Responses per annum | Burden hour per response | Annual burden hours | Hourly cost per response | Annual cost
CDBG-DR | 729 | Varies | 9,174 | Varies | 24,593 | $26 | $639,418
NSP | 1,096 | 42 | 23,016 | Varies | 12,516 | 26 | 325,424
NSP 3 TA | 62 | 43 | 1,333 | Varies | 1,452 | 26 | 37,752
RC & Section 4 | 94 | Varies | 432 | Varies | 632 | 37 | 23,384
Total | 1,981 | Varies | 33,955 | Varies | 39,193 | Varies | 1,025,978

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: January 15, 2020.
John Bravacos,
General Deputy Assistant Secretary for Community Planning and Development.

[FR Doc. 2020-01470 Filed 1-27-20; 8:45 am]

BILLING CODE 4210-67-P